OFFICE OF PERSONNEL MANAGEMENT

President's Commission on White House Fellowships Advisory Committee: Closed Meeting

AGENCY: President's Commission on White House Fellowships, U.S. Office of Personnel Management.

ACTION: Notice of meeting.

SUMMARY: The President's Commission on White House Fellowships (PCWHF) was established by an Executive Order in 1964. The PCWHF is an advisory committee composed of Special Government Employees appointed by the President. The Advisory Committee meets in June to interview potential candidates for recommendation to become a White House Fellow.

The meeting is closed.

Name of Committee: President's Commission on White House Fellowships Selection Weekend.

Date: June 9-12, 2016.

Time: 7:00 a.m.-9:30 p.m.

Place: St. Regis Hotel, 16th and K Street, Washington, DC 20006.

Agenda: The Commission will interview 30 National Finalists for the selection of the new class of White House Fellows.

FOR FURTHER INFORMATION CONTACT: Jennifer Y. Kaplan, 712 Jackson Place NW., Washington, DC 20503, Phone: 202-395-4522.

President's Commission on White House Fellowships.
Jennifer Y. Kaplan,
Director.

[FR Doc. 2016-10549 Filed 5-4-16; 8:45 am]

BILLING CODE 6325-44-P